DEPARTMENT OF TRANSPORTATION

Federal Aviation Administration

14 CFR Part 97

[Docket No. 30884; Amdt. No. 3519]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 13, 2013. The compliance date for each SIAP, associated Takeoff Minimums, and ODP is specified in the amendatory provisions.

The incorporation by reference of certain publications listed in the regulations is approved by the Director of the Federal Register as of February 13, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169, or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on February 1, 2013.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 7 MARCH 2013

Tatitlek, AK, Tatitlek, RNAV (GPS) RWY 31, Orig-A

Jonesboro, AR, Jonesboro Muni, RNAV (GPS) RWY 5, Amdt 1

Jonesboro, AR, Jonesboro Muni, RNAV (GPS) RWY 23, Amdt 1

Jonesboro, AR, Jonesboro Muni, RNAV (GPS) RWY 31, Amdt 1

Jonesboro, AR, Jonesboro Muni, Takeoff Minimums and Obstacle DP, Amdt 3

Washington, DC, Manassas Rgnl/Harry P. Davis Field, ILS OR LOC RWY 16L, Amdt 5

Washington, DC, Ronald Reagan Washington National, RNAV (RNP) RWY 19, Amdt 1

Jacksonville, FL, Jacksonville Executive at Craig Airport, ILS OR LOC RWY 32, Amdt 5

Jacksonville, FL, Jacksonville Executive at Craig Airport, RNAV (GPS) RWY 14, Amdt 1

Jacksonville, FL, Jacksonville Executive at Craig Airport, RNAV (GPS) RWY 32, Amdt 1

Jacksonville, FL, Jacksonville Executive at Craig Airport, Takeoff Minimums and Obstacle DP, Amdt 4

Jacksonville, FL, Jacksonville Executive at Craig Airport, VOR RWY 14, Amdt 5

Jacksonville, FL, Jacksonville Executive at Craig Airport, VOR/DME RWY 32, Amdt 3

Tallahassee, FL, Tallahassee Rgnl, ILS OR LOC/DME RWY 36, Amdt 25

Tallahassee, FL, Tallahassee Rgnl, NDB RWY 36, Amdt 20B, CANCELED

Tallahassee, FL, Tallahassee Rgnl, VOR RWY 18, Amdt 12

Tallahassee, FL, Tallahassee Rgnl, VOR/DME OR TACAN RWY 36, Amdt 1

Atlanta, GA, Fulton County Airport-Brown Field, RNAV (GPS) RWY 26, Amdt 1A

Lawrenceville, GA, Gwinnett County—Briscoe Field, ILS OR LOC RWY 25, Amdt 2A

Lawrenceville, GA, Gwinnett County—Briscoe Field, NDB RWY 25, Amdt 1A

Lawrenceville, GA, Gwinnett County—Briscoe Field, RNAV (GPS) RWY 7, Orig-A

Lawrenceville, GA, Gwinnett County—Briscoe Field, RNAV (GPS) RWY 25, Orig-A

Lawrenceville, GA, Gwinnett County—Briscoe Field, RNAV (GPS)-A, Orig-A

Lawrenceville, GA, Gwinnett County—Briscoe Field, VOR/DME RWY 7, Amdt 2A

Iowa Falls, IA, Iowa Falls Muni, NDB RWY 31, Amdt 5, CANCELED

Iowa Falls, IA, Iowa Falls Muni, RNAV (GPS) RWY 13, Orig

Iowa Falls, IA, Iowa Falls Muni, RNAV (GPS) RWY 31, Amdt 1

Pinckneyville, IL, Pinckneyville-Du Quoin, RNAV (GPS) RWY 18, Amdt 1

Boston, MA, General Edward Lawrence Logan Intl, ILS OR LOC RWY 33L, ILS RWY 33L (SA CAT I), ILS RWY 33L (CAT II), ILS RWY 33L (CAT III), Amdt 5

Boston, MA, General Edward Lawrence Logan Intl, RNAV (GPS) RWY 33L, Amdt 2

Montague, MA, Turners Falls, RNAV (GPS)-B, Orig

Montague, MA, Turners Falls, VOR-A, Amdt 4

Marquette, MI, Sawyer Intl, RNAV (GPS) RWY 1, Orig

Kansas City, MO, Kansas City Intl, ILS OR LOC RWY 1L, Amdt 15

Kansas City, MO, Kansas City Intl, ILS OR LOC RWY 1R, ILS RWY 1R (SA CAT I), ILS RWY 1R (CAT II), ILS RWY 1R (CAT III), Amdt 4

Kansas City, MO, Kansas City Intl, ILS OR LOC RWY 9, Amdt 14

Kansas City, MO, Kansas City Intl, ILS OR LOC RWY 19L, Amdt 2

Kansas City, MO, Kansas City Intl, ILS OR LOC RWY 19R, ILS RWY 19R (SA CAT I), ILS RWY 19R (CAT II), ILS RWY 19R (CAT III), Amdt 11

Kansas City, MO, Kansas City Intl, ILS OR LOC RWY 27, Amdt 3

Kansas City, MO, Kansas City Intl, RNAV (GPS) Y RWY 1L, Amdt 2

Kansas City, MO, Kansas City Intl, RNAV (GPS) Y RWY 1R, Amdt 2

Kansas City, MO, Kansas City Intl, RNAV (GPS) Y RWY 9, Amdt 2

Kansas City, MO, Kansas City Intl, RNAV (GPS) Y RWY 19L, Amdt 2

Kansas City, MO, Kansas City Intl, RNAV (GPS) Y RWY 19R, Amdt 2

Kansas City, MO, Kansas City Intl, RNAV (GPS) Y RWY 27, Amdt 2

Kansas City, MO, Kansas City Intl, RNAV (RNP) Z RWY 1L, Amdt 1

Kansas City, MO, Kansas City Intl, RNAV (RNP) Z RWY 1R, Amdt 1

Kansas City, MO, Kansas City Intl, RNAV (RNP) Z RWY 9, Amdt 1

Kansas City, MO, Kansas City Intl, RNAV (RNP) Z RWY 19L, Amdt 1

Kansas City, MO, Kansas City Intl, RNAV (RNP) Z RWY 19R, Amdt 1

Kansas City, MO, Kansas City Intl, RNAV (RNP) Z RWY 27, Amdt 1

Raymond, MS, John Bell Williams, ILS OR LOC RWY 12, Orig-A

Gallipolis, OH, Gallia-Meigs Rgnl, GPS RWY 23, Orig, CANCELED

Gallipolis, OH, Gallia-Meigs Rgnl, RNAV (GPS) RWY 23, Orig

Erie, PA, Erie Intl/Tom Ridge Field, NDB RWY 6, Amdt 2

Erie, PA, Erie Intl/Tom Ridge Field, NDB RWY 24, Amdt 19

Erie, PA, Erie Intl/Tom Ridge Field, VOR RWY 6, Amdt 16, CANCELED

Erie, PA, Erie Intl/Tom Ridge Field, VOR/DME RWY 24, Amdt 12, CANCELED

Washington, PA, Washington County, RNAV (GPS) RWY 9, Amdt 1A

Ponce, PR, Mercedita, Takeoff Minimums and Obstacle DP, Amdt 3

San Juan, PR, Luis Munoz Marin Intl, ILS OR LOC RWY 10, Amdt 6

San Juan, PR, Luis Munoz Marin Intl, RNAV (GPS) RWY 10, Amdt 2

San Juan, PR, Luis Munoz Marin Intl, VOR OR TACAN RWY 10, Amdt 2

Union City, TN, Everett-Stewart Rgnl, ILS OR LOC RWY 1, Amdt 2

Union City, TN, Everett-Stewart Rgnl, RNAV (GPS) RWY 1, Amdt 3

Seattle, WA, Seattle-Tacoma Intl, ILS OR LOC RWY 16C, ILS RWY 16C (SA CAT I), ILS RWY 16C (CAT II), ILS RWY 16C (CAT III), Amdt 14

Seattle, WA, Seattle-Tacoma Intl, ILS OR LOC RWY 16L, ILS RWY 16L (SA CAT I), ILS RWY 16L (CAT II), ILS RWY 16L (CAT III), Amdt 5

Seattle, WA, Seattle-Tacoma Intl, ILS OR LOC RWY 16R, ILS RWY 16R (SA CAT I), ILS RWY 16R (CAT II), ILS RWY 16R (CAT III), Amdt 2

Seattle, WA, Seattle-Tacoma Intl, ILS OR LOC RWY 34C, ILS RWY 34C (SA CAT I), ILS RWY 34C (SA CAT II), Amdt 3

Seattle, WA, Seattle-Tacoma Intl, ILS OR LOC RWY 34L, ILS RWY 34L (SA CAT I), ILS RWY 34L (SA CAT II), Amdt 1

Seattle, WA, Seattle-Tacoma Intl, ILS OR LOC RWY 34R, ILS RWY 34R (SA CAT I), ILS RWY 34R (SA CAT II), Amdt 2

Seattle, WA, Seattle-Tacoma Intl, RNAV (GPS) Y RWY 16C, Amdt 2

Seattle, WA, Seattle-Tacoma Intl, RNAV (GPS) Y RWY 16L, Amdt 3

Seattle, WA, Seattle-Tacoma Intl, RNAV (GPS) Y RWY 16R, Amdt 1

Seattle, WA, Seattle-Tacoma Intl, RNAV (GPS) Y RWY 34C, Amdt 2

Seattle, WA, Seattle-Tacoma Intl, RNAV (GPS) Y RWY 34L, Amdt 1

Seattle, WA, Seattle-Tacoma Intl, RNAV (GPS) Y RWY 34R, Amdt 2

Seattle, WA, Seattle-Tacoma Intl, RNAV (RNP) Z RWY 16C, Orig

Seattle, WA, Seattle-Tacoma Intl, RNAV (RNP) Z RWY 16L, Orig

Seattle, WA, Seattle-Tacoma Intl, RNAV (RNP) Z RWY 16R, Orig

Seattle, WA, Seattle-Tacoma Intl, RNAV (RNP) Z RWY 34C, Orig

Seattle, WA, Seattle-Tacoma Intl, RNAV (RNP) Z RWY 34L, Orig

Seattle, WA, Seattle-Tacoma Intl, RNAV (RNP) Z RWY 34R, Orig

Effective 4 APRIL 2013

Connersville, IN, Mettel Field, RNAV (GPS) RWY 18, Amdt 1A

Georgetown, TX, Georgetown Muni, NDB RWY 18, Amdt 5, CANCELED

Rescinded: On January 25, 2013 (78 FR 5256), the FAA published an Amendment in Docket No. 30880, Amdt No. 3515 to Part 97 of the Federal Aviation Regulations under section 97.33. The following 4 entries for Lakeview, CA, effective 7 March, 2013, are hereby rescinded in their entirety:

Lakeview, OR, Lake County, GPS RWY 34, Orig-A, CANCELED

Lakeview, OR, Lake County, RNAV (GPS) RWY 17, Orig

Lakeview, OR, Lake County, RNAV (GPS) RWY 35, Orig

Lakeview, OR, Lake County, Takeoff Minimums and Obstacle DP, Amdt 3

[FR Doc. 2013-03147 Filed 2-12-13; 8:45 am]

BILLING CODE 4910-13-P